NATIONAL AERONAUTICS AND SPACE ADMINISTRATION

[Notice 01-035]

NASA Advisory Council (NAC), Aero-Space Technology Advisory Committee (ASTAC); Airframe Systems Subcommittee; Meeting

AGENCY: National Aeronautics and Space Administration.

ACTION: Notice of meeting.

SUMMARY: In accordance with the Federal Advisory Committee Act, Pub. L. 92-463, as amended, the National Aeronautics and Space Administration announces a forthcoming meeting of the NASA Advisory Council, Aero-Space Technology Advisory Committee, Airframe Systems Subcommittee.

DATES: Thursday, April 5, 2001, 8 a.m. to 5:45 p.m. and Friday, April 6, 2001, 8 a.m. to 12 Noon.

ADDRESSES: National Aeronautics and Space Administration, Langley Research Center, Building 1244, Room 223, Hampton, VA 23681-0001.

FOR FURTHER INFORMATION CONTACT: Dr. Darrel Tenney, National Aeronautics and Space Administration, Langley Research Center, Hampton, VA 23681, 757/864-6033.

SUPPLEMENTARY INFORMATION: The meeting will be open to the public up to the seating capacity of the room. The agenda for the meeting is as follows:

—October 24 to 26, 2000, Subcommittee Report

—January 12 to 13, 2001, Report from the Turbulence Workshop

—Wind Tunnel Status and Strategy

—Aerospace Vehicle Systems Technology Program (AVSTP) Status

—AVSTP Vision and New Initiatives

It is imperative that the meeting be held on these dates to accommodate the scheduling priorities of the key participants.

Dated: March 5, 2001.
Beth M. McCormick,
Advisory Committee Management Officer, National Aeronautics and Space Administration.

[FR Doc. 01-5661 Filed 3-7-01; 8:45 am]

BILLING CODE 7510-01-P